SMALL BUSINESS ADMINISTRATION

Small Business Investment Companies; Increase in Maximum Leverage Ceiling

Correction

In Notice document E8-29027 appearing on page 75488 in the issue of Thursday, December 11, 2008, make the following correction:

The table should appear as follows:

If your leverageable capital is: | Then your maximum leverage is:
(1) Not over $22,800,000 | 300 percent of Leverageable Capital.
(2) Over $22,800,000 but not over $45,700,000 | $68,400,000 + [2 x (Leverageable Capital −$22,800,000)].
(3) Over $45,700,000 but not over $68,600,000 | $114,200,000 + (Leverageable Capital −$45,700,000).
(4) Over $68,600,000 | $137,100,000.

[FR Doc. Z8-29027 Filed 12-24-08; 8:45 am]

BILLING CODE 1505-01-D